Title 3—

The President

Proclamation 10698 of January 31, 2024

American Heart Month, 2024

By the President of the United States of America

A Proclamation

This American Heart Month, we recommit to promoting heart-healthy lifestyles, expanding access to quality health care, and breaking new bounds in heart disease research and treatment.

Each year, heart disease takes the lives of nearly 700,000 Americans. It is the leading cause of death in our country. Too many of us are familiar with the pain of losing a loved one to a heart attack, stroke, or coronary heart disease. There is still hope, however: With the adoption of a healthy lifestyle and access to good health care, these conditions can often be prevented and lives can be saved.

That is why my Administration is committed to giving families the tools they need to stay healthy. In 2022, we hosted the first White House Conference on Hunger, Nutrition, and Health in over 50 years and released a national strategy to end hunger and reduce diet-related diseases by 2030. Our strategy includes improving food access and affordability by providing free, healthy meals to millions of students, expanding incentives for fruits and vegetables in the Supplemental Nutrition Assistance Program, and expanding Medicaid and Medicare coverage to provide nutrition and obesity counseling.

I have often said that health care should be a right, not a privilege. Every American deserves access to the health care and treatment they need. In 2022, I was proud to sign the Inflation Reduction Act, which, once in effect will cap the total out-of-pocket drug costs for seniors and others with Medicare at $2,000 per year, saving nearly 19 million families an average of $400 per year. I have also improved access to dental services for people with Medicare who need certain cardiac procedures—these dental services have been shown to reduce unnecessary and preventable acute and chronic complications for the patient. These measures ensure that people on Medicare who have heart disease will be better able to access the preventative services and treatments they need.

Additionally, we are working to advance new breakthroughs on a range of diseases. Our Advanced Research Projects Agency for Health is working to accelerate major biomedical innovations in preventing, detecting, and treating life-threatening conditions like Alzheimer's, diabetes, and cancer. This is the kind of progress that can lead to new advancements for cardiovascular diseases.

It is also important for every American to be aware of individual actions we can take to keep our hearts healthy: Exercising regularly, eating well, managing weight, and avoiding smoking or vaping are proven to reduce the risk of cardiovascular disease. Experts also recommend that everyone should learn the warning signs of a heart attack and stroke and that they should consult a doctor if they experience risk factors or symptoms.

This Friday, February 2nd, I encourage every American to raise awareness about heart health by wearing red on National Wear Red Day. During American Heart Month, may we remember the lives of all those who have been lost to heart conditions and all the people who live with these conditions each day. My Administration will continue working to put a heart-healthy lifestyle within the reach of every American.

To learn more about heart health, please talk to your health care provider or visit CDC.gov/heartdisease.

In acknowledgement of the importance of the ongoing fight against cardiovascular disease, the Congress, by Joint Resolution approved December 30, 1963, as amended (36 U.S.C. 101), has requested that the President issue an annual proclamation designating February as “American Heart Month.”

NOW, THEREFORE, I, JOSEPH R. BIDEN JR., President of the United States of America, do hereby proclaim February 2024 as American Heart Month, and I invite all Americans to participate in National Wear Red Day on February 2, 2024. I also invite the Governors of the States, the Commonwealth of Puerto Rico, officials of other areas subject to the jurisdiction of the United States, and the American people to join me in recognizing and reaffirming our commitment to fighting cardiovascular disease and extending the promise of a long and healthy life across this country.

IN WITNESS WHEREOF, I have hereunto set my hand this thirty-first day of January, in the year of our Lord two thousand twenty-four, and of the Independence of the United States of America the two hundred and forty-eighth.

[FR Doc. 2024-02343

Filed 2-2-24; 8:45 am]

Billing code 3395-F4-P